SMALL BUSINESS ADMINISTRATION

Aldine Capital Fund II, L.P.; License No. 05/05-0310; Notice Seeking Exemption Under Section 312 of the Small Business Investment Act, Conflicts of Interest

Notice is hereby given that Aldine Capital Fund II, L.P., 30 West Monroe Street, Suite 710, Chicago, IL 60603, a Federal Licensee under the Small Business Investment Act of 1958, as amended (“the Act”), in connection with the financing of a small concern, has sought an exemption under Section 312 of the Act and Section 107.730, Financings which constitute Conflicts of Interest of the U.S. Small Business Administration (“SBA”) Rules and Regulations (13 CFR 107.730). Aldine Capital Fund II, L.P. proposes to provide debt and equity financing to Rock Energy Systems, LLC, 1007 Church Street, Suite 420, Evanston, IL 60201.

The financing is brought within the purview of § 107.730(a) of the Regulations because Aldine SBIC Fund, L.P. and Aldine Capital Fund, L.P., Associates of Aldine Capital Fund II, L.P., hold an ownership interest in Rock Energy Systems, LLC of greater than 10 percent. Therefore, Rock Energy Systems, LLC is an Associate of Aldine Capital Fund II, L.P. and the transaction is considered financing an Associate. In addition, proceeds of this transaction will be used, in part, to discharge obligations to Associates Aldine SBIC Fund, L.P. and Aldine Capital Fund, L.P. Both characteristics of this transaction require prior SBA exemption.

Notice is hereby given that any interested person may submit written comments on the transaction, within fifteen days of the date of this publication, to the Associate Administrator for Investment and Innovation, U.S. Small Business Administration, 409 Third Street SW., Washington, DC 20416.

April 13, 2016.
Mark L. Walsh,
Associate Administrator, Office of Investment and Innovation.

[FR Doc. 2016-09312 Filed 4-21-16; 8:45 am]

BILLING CODE P